DEPARTMENT OF THE INTERIOR

Bureau of Land Management

[LLOR936000-L14300000-ET0000; FUND 13XL1109AF; HAG-13-0199; OROR-66533]

Public Land Order No. 7819; Chetco Wild and Scenic River Withdrawal; Oregon

AGENCY: Bureau of Land Management, Interior.

ACTION: Public Land Order.

SUMMARY: This order withdraws approximately 5,610 acres of National Forest System lands from location and entry under the United States mining laws, and leasing under the mineral and geothermal leasing laws, for a period of 5 years. This withdrawal will protect the scenic and recreational segments of the Chetco Wild and Scenic River corridor in Curry County, Oregon, while Congress considers a technical correction to the Wild and Scenic Rivers Act.

DATES: Effective Date: July 26, 2013.

FOR FURTHER INFORMATION CONTACT: Michael L. Barnes, Bureau of Land Management, Oregon/Washington State Office, 333 SW 1st Avenue, Portland, OR 97204, 503-808-6155, or Dianne Torpin, United States Forest Service, Pacific Northwest Region, 333 SW 1st Avenue, Portland, OR 97204, 503-808-2422. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: On October 28, 1988, 44.5 miles of the Chetco River located in the Siskiyou National Forest was designated a Wild and Scenic River (102 Stat. 2782 (1988)). Of the designated 44.5 river miles, the lower 19 miles were designated scenic and recreational and remained open to location and entry under the United States mining laws. The United States Forest Service requests that, subject to valid existing rights, the lower 19 miles be closed to location and entry under the United States mining laws and to leasing under the mineral and geothermal leasing laws while legislation is being considered to make a technical correction to Section 3(a)(69) of the Wild and Scenic Rivers Act (16 U.S.C. 1274(69)).

Order

By virtue of the authority vested in the Secretary of the Interior by Section 204 of the Federal Land Policy and Management Act of 1976, 43 U.S.C. 1714, it is ordered as follows:

1. Subject to valid existing rights, the following described National Forest System lands are hereby withdrawn from location and entry under the United States mining laws, and from leasing under the mineral and geothermal leasing laws, but not the mineral materials laws, for a 5-year period, to protect the Scenic and Recreational Segment of the Chetco Wild and Scenic River corridor:

Willamette Meridian

Siskiyou National Forest

T. 39 S., R. 12 W.,

The Point of Beginning, being the southwest corner of Section 31; thence S. 83°43′ E., 599.5 ft. along the south section line of Section 31 to a point which is 100 ft. westerly of and perpendicular to the centerline of Forest Service Road (FSR) 1107-650; thence paralleling FSR 1107-650, 100 ft. westerly and northwesterly of centerline to point 100 ft. westerly of and perpendicular to FSR 1107-650 at intersection of the centerline of FSR 1107; thence N. 74°10′ E., 3572.4 ft. to a point at the end point of FSR 1107-632; thence N. 34°33′ E., 1245.8 ft. to a point at the end point of FSR 1107-630; thence N. 73°50′ E., 785.5 ft. to a point on the east section line of Section 30, which is ¼ mile from the ordinary high water line of the Chetco River; thence paralleling the Chetco River ¼ mile from the ordinary high water line to point ¼ mile east of the ordinary high water line of the Chetco River on the north section line of Section 20; thence N. 87°20′ W., 496.3 ft. along the north section line of Section 20 to the southwest corner of the SE¼SE¼ of Section 17; thence N. 02°36′ E., 3,992.9 ft. along the north-south centerline of the SE¼ and NE¼ of Section 17 to the southwest corner of the NE¼NE¼ of Section 17; thence S. 87°40′ E., 1,233.5 ft. along the south line of the NE¼ of Section 17 to the southeast corner of the NE¼NE¼ of Section 17; thence N. 01°48′ E., 1357.1 ft. along the east line of the NE¼ of Section 17 to the northwest corner of Section 16; thence S. 86°59′ E., 2760.9 ft. along the north line of Section 16 to the south quarter corner of Section 9; thence N. 02°52′ E., 2,655.6 ft. along the north-south centerline of Section 9 to the southwest corner of the NE¼ of Section 9; thence N. 86°48′ W., 2737.2 ft. along the east-west centerline of Section 9 to the west quarter corner of Section 9; thence N. 03° 14′ E., 2,624.8 ft. along the west section line of Section 9 to the southeast corner of Section 5; thence N. 03° 50′ E., 2,603.7 ft. along the east section line of Section 5 to the east quarter corner of Section 5; thence N. 03°40′ E., 2687.8 ft. along the east section line of Section 5 to the northeast corner of Section 5; thence N. 88°01′ W., 351.2 ft. along the north section line of Section 5 to the southeast corner of Section 32, T. 38 S., R. 12 W.; thence N. 02°40′ E., 1936 ft. along the east section line of Section 32 to a point on the east section line of Section 32; thence N. 02°40′ E., 730.3 ft. along the east section line of Section 32 to the west quarter corner of Section 33; thence S. 87°37′ E., 2831.5 ft. along the east-west centerline of Section 33, to the southeast corner of the NW¼ of Section 33; thence N. 02° 27′ E., 932.1 ft. along the north-south centerline of Section 33, to a point on the north-south centerline of Section 33, which is ¼ mile south of the ordinary high water line of the Chetco River; thence paralleling the Chetco River ¼ mile from the ordinary high water line to the boundary of the Kalmiopsis Wilderness; thence along the boundary of the Kalmiopsis Wilderness northerly and across the Chetco River to a point 50 ft. northwesterly of Tin Cup Trail #1117; thence along a line parallel to and offset 50 ft. northwesterly from Tin Cup Trail #1117 to a point at the intersection with FSR 1376-365; thence S. 6° 26′ W., 1,183.9 ft. to a point on a ridge being ¼ mile northwesterly from the northwesterly ordinary high water line of the Chetco River; thence along a line parallel to and offset ¼ mile northwesterly from the northwesterly ordinary high water line to a point on the north section line of Section 5, T. 39 S., R. 12 W., which is ¼ mile from the ordinary high water line of the Chetco River; thence N. 88° 17′ W., 733.6 ft. along the north section line of Section 5 to the northeast corner of the NW¼NW¼ of Section 5, T. 39 S., R. 12 W; thence S. 01° 40′ W., 5,290.4 ft. along the north-south centerline of the NW¼ and SW¼ of Section 5 to the northeast corner of the NW¼NW¼ of Section 8; thence S. 02° 20′ W., 5,169.3 ft. along the north-south centerline of the NW¼ and SW¼ of Section 8 to the northeast corner of the NW¼NW¼ of Section 17; thence S. 01° 51′ W., 5,280 ft. to the northeast corner of the NW¼NW¼ of Section 20; thence S. 01° 51′ W., 2,609.7 ft. along the north-south centerline of the NW¼ of Section 20 to the southeast corner of the SW¼NW¼ of Section 20; thence S. 30° 47′ W., 2,842.2 ft. to the section corner common to Sections 19, 20, 29, and 30; thence S. 67°05′ W., 5,922.9 ft. to the northeast corner of lot 11, Section 30; thence N. 87°23′ W., 2,432.6 ft. along the north lines of lots 11 and 12, Section 30, to the west quarter corner of Section 30; thence S. 02°22′ W., 2,587.9 ft. along the west section line of Section 30 to the common section corner to Section 30 and 31; thence S. 01° 09′W., 745.0 ft. to the common section corner to Sections 1 and 12, T. 39 S., R. 13 W.; thence S. 02° 36′ W., 4,212.8 ft. along the west section line of Section 31; thence S. 02°06′ W., 352.8 ft. along the west section line of Section 31 to the Point of Beginning.

The lands aggregate approximately 5,610 acres, more or less, in Curry County.

2. The withdrawal made by this order does not alter the applicability of those public land laws governing the use of the National Forest System lands under lease, license, or permit, or governing the disposal of the mineral or vegetative resources other than under the mining, mineral, and geothermal leasing laws.

3. This withdrawal will expire 5 years from the effective date of this order, unless as a result of a review conducted prior to the expiration date pursuant to Section 204(f) of the Federal Land Policy and Management Act of 1976, 43 U.S.C. 1714(f), the Secretary determines that the withdrawal shall be extended.

Dated: July 19, 2013.
Rhea S. Suh,
Assistant Secretary—Policy, Management and Budget.

[FR Doc. 2013-18021 Filed 7-25-13; 8:45 am]

BILLING CODE 3410-11-P